DEPARTMENT OF ENERGY

Federal Energy Regulatory Commission

Combined Notice of Filings #1

Take notice that the Commission received the following electric corporate filings:

Docket Numbers: EC14-33-000.

Applicants: Kendall Green Energy Holdings LLC, NRG North America LLC, NRG Kendall LLC.

Description: Response to December 20, 2013 Request for a Description of Vertical Competitive Impacts of Kendall Green Energy LLC.

Filed Date: 12/23/13.

Accession Number: 20131223-5256.

Comments Due: 5 p.m. ET 1/2/14.

Take notice that the Commission received the following electric rate filings:

Docket Numbers: ER10-2331-023; ER10-2343-021; ER10-2326-022; ER10-2330-022.

Applicants: J.P. Morgan Ventures Energy Corporation, J.P. Morgan Commodities Canada Corporation, Cedar Brakes I, L.L.C., Utility Contract Funding, L.L.C.

Description: Updated Triennial Market Analysis for the Northwest Region of The JPMorgan Sellers.

Filed Date: 12/23/13.

Accession Number: 20131223-5257.

Comments Due: 5 p.m. ET 2/21/14.

Docket Numbers: ER10-2428-002.

Applicants: Wheat Field Wind Power Project LLC.

Description: Notice of Non-Material Change in Status of Wheat Field Wind Power Project LLC.

Filed Date: 12/23/13.

Accession Number: 20131223-5255.

Comments Due: 5 p.m. ET 1/13/14.

Docket Numbers: ER10-2465-002; ER11-2657-003; ER12-1308-003; ER10-2464-002; ER13-1585-002.

Applicants: Milford Wind Corridor Phase I, LLC, Milford Wind Corridor Phase II, LLC, Palouse Wind, LLC, First Wind Energy Marketing, LLC, Longfellow Wind, LLC.

Description: Market Power Update Analysis for Northwest Region of Milford Wind Corridor Phase I, LLC, et. al.

Filed Date: 12/23/13.

Accession Number: 20131223-5265.

Comments Due: 5 p.m. ET 2/21/14.

Docket Numbers: ER12-2314-003.

Applicants: Spinning Spur Wind LLC.

Description: Spinning Spur Wind, LLC, Compliance Tariff Filing to be effective 12/24/2013.

Filed Date: 12/23/13.

Accession Number: 20131223-5223.

Comments Due: 5 p.m. ET 1/13/14.

Docket Numbers: ER14-612-002.

Applicants: Skylar Energy LP.

Description: Amended Market-Based Rate Tariff to be effective 1/15/2014.

Filed Date: 12/23/13.

Accession Number: 20131223-5201.

Comments Due: 5 p.m. ET 1/13/14.

Docket Numbers: ER14-819-000.

Applicants: El Paso Electric Company.

Description: Nonconforming Service Agreements to be effective 12/31/9998.

Filed Date: 12/23/13.

Accession Number: 20131223-5224.

Comments Due: 5 p.m. ET 1/13/14.

Docket Numbers: ER14-820-000.

Applicants: Nevada Power Company.

Description: Rate Schedule No. 140 WECC Unscheduled Flow Mitigation Plan Concurrence to be effective 12/31/9998.

Filed Date: 12/23/13.

Accession Number: 20131223-5226.

Comments Due: 5 p.m. ET 1/13/14.

Docket Numbers: ER14-821-000.

Applicants: Sierra Pacific Power Company.

Description: Rate Schedule No. 65 WECC Unscheduled Flow Mitigation Plan Concurrence to be effective 12/31/9998.

Filed Date: 12/23/13.

Accession Number: 20131223-5227.

Comments Due: 5 p.m. ET 1/13/14.

Docket Numbers: ER14-822-000.

Applicants: PJM Interconnection, L.L.C.

Description: Revisions to the PJM OATT, OA & RAA re DR as Capacity Resource to be effective 3/15/2014.

Filed Date: 12/23/13.

Accession Number: 20131224-5000.

Comments Due: 5 p.m. ET 1/13/14.

Docket Numbers: ER14-823-000.

Applicants: Portland General Electric Company.

Description: Attachment K URL to be effective 1/1/2014.

Filed Date: 12/23/13.

Accession Number: 20131224-5001.

Comments Due: 5 p.m. ET 1/13/14.

Take notice that the Commission received the following electric reliability filings:

Docket Numbers: RR14-1-000.

Applicants: North American Electric Reliability Corporation.

Description: Petition of the North American Electric Reliability Corporation for Approval of Proposed Revisions to the Southwest Power Pool Regional Entity Standards Development Process Manual.

Filed Date: 12/20/13.

Accession Number: 20131220-5431.

Comments Due: 5 p.m. ET 1/10/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 24, 2013.
Nathaniel J. Davis, Sr.,
Deputy Secretary.

[FR Doc. 2013-31398 Filed 12-31-13; 8:45 am]

BILLING CODE 6717-01-P